NUCLEAR REGULATORY COMMISSION

[Docket No. 70-143]

Nuclear Fuel Services, Inc.; Correction of Amendment 39 Authorizing Operations in the Uranyl Nitrate Building

ACTION: Notice of availability; Corrected Amendment 39 to Materials License SNM-124.

FOR FURTHER INFORMATION CONTACT: Mary Adams, Fuel Cycle and Safety Branch, Office of Nuclear Materials, Safety and Safeguards, 11554 Rockville Pike, Rockville, MD 20852; telephone (301) 415-7249; or by e-mail at mta@nrc.gov.

SUPPLEMENTARY INFORMATION: Amendment 39 to Materials License SNM-124 was issued on July 7, 2003. Safety Condition S-1 in Amendment 39 failed to reference the supplement to the Nuclear Fuel Services (NFS) license application dated April 16, 2003. NRC staff used the commitments in this supplement as the basis for approving management measures for items relied on for safety at the Uranyl Nitrate Building. Safety Condition S-1 has been corrected to add the date of April 16, 2003.

The corrected Amendment 39 is available electronically for public inspection and copying for a fee in the NRC Public Document Room, One White Flint North Building, 11555 Rockville, MD 20852, or from the Publicly Available Records (PARS) component of NRC's Agency-wide Documents Access and Management System (ADAMS) under accession number ML031890762. ADAMS is accessible from the NRC Web site at http://www.nrc.gov/reading-rm/adams.html (the Public Electronic Reading Room). If you do not have access to ADAMS, or if there are problems accessing the documents located in ADAMS, contact the NRC Public Document Room Reference staff at 1(800) 397-4209 or by e-mail at pdr@nrc.gov.

Dated at Rockville, Maryland, this 13th day of August, 2003.
For the U.S. Nuclear Regulatory Commission.
Mary T. Adams,
Project Manager, Fuel Cycle Facilities Branch, Division of Fuel Cycle Safety and Safeguards, Office of Nuclear Material Safety and Safeguards.

[FR Doc. 03-21881 Filed 8-26-03; 8:45 am]

BILLING CODE 7590-01-P